DEPARTMENT OF TRANSPORTATION

Federal Transit Administration

[Docket No: FTA-2007-0012]

National Transit Database: Strike Adjustments for Urbanized Area Apportionments

AGENCY: Federal Transit Administration (FTA), DOT.

ACTION: Notice of New Policy on Strike Adjustments for Urbanized Area Formula Grant Apportionment Data.

SUMMARY: This notice provides interested parties with the opportunity to comment on changes to the Federal Transit Administration's (FTA) National Transit Database (NTD) policy on strike adjustments. On March 12, 2007, FTA provided notice to NTD reporters that it was changing its policy on strikes, to permit transit agencies to request an adjustment to their NTD data that are used in the apportionment of Urbanized Area Formula Grants to offset the effect of strikes, retroactive to the 2005 Report Year. FTA invites the public to comment on this policy change.

DATES: Comments must be received on or before December 21, 2007. FTA will consider comments filed after this date to the extent practicable.

ADDRESSES: You may submit comments [identified by DOT Docket ID Number FTA-2007-0012] at the Federal eRulemaking Portal at: http://www.regulations.gov. Follow the online instructions for submitting comments

Fax: 202-493-2251.

Mail: Docket Management Facility: U.S. Department of Transportation, 1200 New Jersey Avenue SE., West Building Ground Floor, Room W12-140, Washington, DC 20590-0001.

Hand Delivery or Courier: West Building Ground Floor, Room W12-140, 1200 New Jersey Avenue SE., between 9 a.m. and 5 p.m. ET, Monday through Friday, except Federal holidays.

Instructions: When submitting comments, you must use docket number FTA-2007-0012. This will ensure that your comment is placed in the correct docket. If you submit comments by mail, you should submit two copies and include the above docket number. Note that all comments received will be posted, without change, to http://www.regulations.gov including any personal identifying information.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Congress established the NTD to “help meet the needs of * * * the public for information on which to base public transportation service planning * * * ” (49 U.S.C 5335). Currently, over 650 transit agencies in urbanized areas report to the NTD through an Internet-based reporting system. Each year, performance data from these submissions are used to apportion over $4 billion of FTA funds under the Urbanized Area Formula Grants Program. These data are also used in the annual National Transit Summaries and Trends report, the biennial Conditions and Performance Report to Congress, and in meeting FTA's obligations under the Government Performance and Results Act.

For many years, it was FTA's policy to not adjust performance data submitted to the NTD to offset the effect of strikes. On March 12, 2007, FTA provided notice to NTD reporters that it was changing its policy on strikes, to permit transit agencies to request an adjustment to their NTD data that are used in the apportionment of Urbanized Area Formula Program Funds to offset the effect of strikes, retroactive to the 2005 Report Year. An internal review in FTA found that this policy had not been subject to public notice-and-comment at that time. Pursuant to 49 U.S.C. 5334(l), FTA now invites comments on this change.

II. Proposed Policy Change

FTA proposes to allow urbanized area transit agencies to request that their NTD data submissions be adjusted to offset the effects of strikes for purposes of the apportionment of Urbanized Area Formula Program Grants. Requesting transit agencies must provide FTA with documentation for the duration of the strike. FTA will then use the transit agency's NTD submissions to project performance data for the time period in question. These projections would then be added to the transit agency's NTD submission in the data sets used by FTA for the calculation of the apportionments of Urbanized Area Formula Program Grants (Section 5307 and Section 5309 Grants). The NTD data in all publicly-available data sets and data products would remain unadjusted, and would reflect the actual NTD submission for the agency.

FTA proposes this policy change because the Section 5307 and Section 5309 Grant Programs are fundamentally designed to support the capital needs of transit agencies in urbanized areas. As such, various performance data are used to approximate the relative capital needs of the various urbanized areas. These capital needs are unaffected by strikes, even though strikes may produce a substantial decrease in the performance data for an urbanized area.

Further, FTA proposes to make this policy retroactive to the FY 2005 Report Year, to allow urbanized areas that were negatively impacted by strikes in the 2005 and 2006 Report Years in the formula apportionment to avail themselves of this policy.

Issued in Washington, DC, this 15th day of November 2007.
James S. Simpson,
Administrator.

[FR Doc. E7-22766 Filed 11-20-07; 8:45 am]

BILLING CODE 4910-57-P